COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes products and services from the Procurement List previously furnished by such agencies.

DATES: Date added to and deleted from the Procurement List: May 17, 2020.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

On 9/6/2019 and 3/6/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

7490-00-NIB-0054—Scale, Shipping, Digital, 25 LB. Capacity, Black/Metallic

Mandatory Source of Supply: Asso. for the Blind and Visually Impaired-Goodwill Industries of Greater Rochester, Inc., Rochester, NY

Mandatory For: Total Government Requirement

Contracting Activity: FEDERAL ACQUISITION SERVICE, GSA/FAS ADMIN SVCS ACQUISITION BR(2

NSNs—Product Names:

8405-01-683-2301—Shirt, Army Green Service Uniform, Men's, Frch Plkt, S/S, Classic Fit, Heritage Tan, 16 T

8405-01-683-2308—Shirt, Army Green Service Uniform, Men's, Frch Plkt, S/S, Classic Fit, Heritage Tan, 16 1/2 T

8405-01-683-2316—Shirt, Army Green Service Uniform, Men's, Frch Plkt, S/S, Classic Fit, Heritage Tan, 17 T

8405-01-683-2330—Shirt, Army Green Service Uniform, Men's, Frch Plkt, S/S, Classic Fit, Heritage Tan, 18 1/2 T

8405-01-683-2325—Shirt, Army Green Service Uniform, Men's, Frch Plkt, S/S, Classic Fit, Heritage Tan, 18 T

8405-01-683-2335—Shirt, Army Green Service Uniform, Men's, Frch Plkt, S/S, Classic Fit, Heritage Tan, 19 T

8405-01-683-2522—Shirt, Army Green Service Uniform, Men's, Frch Plkt, S/S, Athletic Fit, Heritage Tan, 15 1/2

8405-01-683-2567—Shirt, Army Green Service Uniform, Men's, Frch Plkt, S/S, Athletic Fit, Heritage Tan, 16

8405-01-683-2574—Shirt, Army Green Service Uniform, Men's, Frch Plkt, S/S, Athletic Fit, Heritage Tan, 16 1/2

8405-01-683-2579—Shirt, Army Green Service Uniform, Men's, Frch Plkt, S/S, Athletic Fit, Heritage Tan, 17

8405-01-683-2582—Shirt, Army Green Service Uniform, Men's, Frch Plkt, S/S, Athletic Fit, Heritage Tan, 17 1/2

8405-01-683-2585—Shirt, Army Green Service Uniform, Men's, Frch Plkt, S/S, Athletic Fit, Heritage Tan, 18 1/2

8405-01-683-2588—Shirt, Army Green Service Uniform, Men's, Frch Plkt, S/S, Athletic Fit, Heritage Tan, 18 1/2

8405-01-683-2594—Shirt, Army Green Service Uniform, Men's, Frch Plkt, S/S, Athletic Fit, Heritage Tan, 19

8405-01-683-2525—Shirt, Army Green Service Uniform, Men's, Frch Plkt, S/S, Athletic Fit, Heritage Tan, 15 1/2 T

8405-01-683-2566—Shirt, Army Green Service Uniform, Men's, Frch Plkt, S/S, Athletic Fit, Heritage Tan, 16 T

8405-01-683-2575—Shirt, Army Green Service Uniform, Men's, Frch Plkt, S/S, Athletic Fit, Heritage Tan, 16 1/2 T

8405-01-683-2581—Shirt, Army Green Service Uniform, Men's, Frch Plkt, S/S, Athletic Fit, Heritage Tan, 17 T

8405-01-683-2583—Shirt, Army Green Service Uniform, Men's, Frch Plkt, S/S, Athletic Fit, Heritage Tan, 17 1/2 T

8405-01-683-2586—Shirt, Army Green Service Uniform, Men's, Frch Plkt, S/S, Athletic Fit, Heritage Tan, 18 T

8405-01-683-2595—Shirt, Army Green Service Uniform, Men's, Frch Plkt, S/S, Athletic Fit, Heritage Tan, 19 T

8405-01-683-2599—Shirt, Army Green Service Uniform, Men's, Frch Plkt, S/S, Athletic Fit, Heritage Tan, 19 1/2 T

8405-01-683-2601—Shirt, Army Green Service Uniform, Men's, Frch Plkt, S/S, Athletic Fit, Heritage Tan, 20 T

8405-01-683-2591—Shirt, Army Green Service Uniform, Men's, Frch Plkt, S/S, Athletic Fit, Heritage Tan, 18 1/2 T

8405-01-683-2320—Shirt, Army Green Service Uniform, Men's, Frch Plkt, S/S, Classic Fit, Heritage Tan, 17 1/2 T

8405-01-683-2284—Shirt, Army Green Service Uniform, Men's, Frch Plkt, S/S, Classic Fit, Heritage Tan, 13 1/2 R

8405-01-683-2279—Shirt, Army Green Service Uniform, Men's, Frch Plkt, S/S, Classic Fit, Heritage Tan, 14 R

8405-01-683-2287—Shirt, Army Green Service Uniform, Men's, Frch Plkt, S/S, Classic Fit, Heritage Tan, 14 1/2 R

8405-01-683-2292—Shirt, Army Green Service Uniform, Men's, Frch Plkt, S/S, Classic Fit, Heritage Tan, 15 R

8405-01-683-2295—Shirt, Army Green Service Uniform, Men's, Frch Plkt, S/S, Classic Fit, Heritage Tan, 15 ½ R

8405-01-683-2299—Shirt, Army Green Service Uniform, Men's, Frch Plkt, S/S, Classic Fit, Heritage Tan, 16 R

8405-01-683-2304—Shirt, Army Green Service Uniform, Men's, Frch Plkt, S/S, Classic Fit, Heritage Tan, 16 ½ R

8405-01-683-2310—Shirt, Army Green Service Uniform, Men's, Frch Plkt, S/S, Classic Fit, Heritage Tan, 17 R

8405-01-683-2319—Shirt, Army Green Service Uniform, Men's, Frch Plkt, S/S, Classic Fit, Heritage Tan, 17 ½ R

8405-01-683-2324—Shirt, Army Green Service Uniform, Men's, Frch Plkt, S/S, Classic Fit, Heritage Tan, 18 R

8405-01-683-2327—Shirt, Army Green Service Uniform, Men's, Frch Plkt, S/S, Classic Fit, Heritage Tan, 18 ½ R

8405-01-683-2333—Shirt, Army Green Service Uniform, Men's, Frch Plkt, S/S, Classic Fit, Heritage Tan, 19 R

8405-01-683-2288—Shirt, Army Green Service Uniform, Men's, Frch Plkt, S/S, Classic Fit, Heritage Tan, 14 ½ T

8405-01-683-2293—Shirt, Army Green Service Uniform, Men's, Frch Plkt, S/S, Classic Fit, Heritage Tan, 15 T

8405-01-683-2297—Shirt, Army Green Service Uniform, Men's, Frch Plkt, S/S, Classic Fit, Heritage Tan, 15 ½ T

Mandatory Source of Supply: Goodwill Industries of South Florida, Inc., Miami, FL

Contracting Activity: DEPT OF THE ARMY, W6QK ACC-APG NATICK

Deletions

On 3/13/2020, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following products and services are deleted from the Procurement List:

Products

NSNs—Product Names:

8940-00-NIB-0094—Soup, Shelf-Stable, Cream of Mushroom, Low Sodium

8940-00-NIB-0095—Soup, Shelf-Stable, Cream of Chicken

Mandatory Source of Supply: Cambridge Industries for the Visually Impaired—Deleted, Somerset, NJ

Contracting Activity: DEPT OF AGRIC/AGRICULTURAL MARKETING SERVICE, WASHINGTON, DC

Services

Service Type: Janitorial/Custodial

Mandatory for: Smithsonian Institution Service Center: 1111 North Carolina Street, NE, Washington, DC

Mandatory Source of Supply: Melwood Horticultural Training Center, Inc., Upper Marlboro, MD

Contracting Activity: SMITHSONIAN INSTITUTION, SMITHSONIAN INSTITUTION

Service Type: Janitorial/Custodial

Mandatory for: Backbay National Wildlife Refuge, Virginia Beach, VA

Mandatory Source of Supply: Community Alternatives, Incorporated, Norfolk, VA

Contracting Activity: OFFICE OF POLICY, MANAGEMENT, AND BUDGET, NBC ACQUISITION SERVICES DIVISION

Service Type: Mailroom Operation

Mandatory for: Internal Revenue Service: 300 North Los Angeles Street, Los Angeles, CA

Mandatory Source of Supply: Elwyn, Aston, PA

Contracting Activity: TREASURY, DEPARTMENT OF THE, DEPT OF TREAS/

Service Type: Janitorial/Custodial

Mandatory for: Paul E. Garber Complex: 3904 Old Silver Hill Road, Suitland, MD

Mandatory Source of Supply: Melwood Horticultural Training Center, Inc., Upper Marlboro, MD

Contracting Activity: GENERAL SERVICES ADMINISTRATION, FPDS AGENCY COORDINATOR

Service Type: Carwash Service

Mandatory for: U.S. Border Patrol: 536 Barbara Worth Road, Calexico, CA

Mandatory for: U.S. Border Patrol: 221 W. Aten Rd, Imperial, CA

Mandatory for: U.S. Border Patrol: 1111 N. Imperial Ave, El Centro, CA

Mandatory Source of Supply: ARC-Imperial Valley, El Centro, CA

Contracting Activity: U.S. CUSTOMS AND BORDER PROTECTION, BORDER ENFORCEMENT CONTRACTING DIVISION

Service Type: Janitorial/Custodial

Mandatory for: U.S. Army Reserve Center: Edison, MG Willian Weigal, Edison, NJ

Contracting Activity: DEPT OF THE ARMY, W6QM MICC CTR-FT DIX (RC)

Service Type: Forms Distribution Service

Mandatory for: Department of Health and Human Services, Agency for Healthcare Research and Quality, Rockville, MD

Mandatory Source of Supply: Melwood Horticultural Training Center, Inc., Upper Marlboro, MD

Contracting Activity: AGENCY FOR HEALTH CARE POLICY AND RESEARCH, PHS AHRQ, HHS, ROCKVILLE, MD

Service Type: Mailroom Operation

Mandatory for: USDA, Rural Development Agency, St. Louis, MO

Mandatory Source of Supply: MGI Services Corporation, St. Louis, MO

Contracting Activity: RURAL HOUSING SERVICE, RURAL DEVELOPMENT

Service Type: Grounds Maintenance

Mandatory for: U.S. Geological Survey: Wildlife Research Center, Patuxent, MD

Mandatory Source of Supply: Melwood Horticultural Training Center, Inc., Upper Marlboro, MD

Contracting Activity: OFFICE OF POLICY, MANAGEMENT, AND BUDGET, NBC ACQUISITION SERVICES DIVISION

Michael R. Jurkowski,
Deputy Director, Business & PL Operations.

[FR Doc. 2020-08115 Filed 4-16-20; 8:45 am]

BILLING CODE 6353-01-P